INTERNATIONAL TRADE COMMISSION

Handbook on Electronic Filing Procedures

AGENCY: International Trade Commission.

ACTION: Notice.

SUMMARY: Consistent with the Government Paperwork Elimination Act, the United States International Trade Commission (Commission) proposes to implement procedures to permit persons to electronically file certain documents with the Commission. Elsewhere in this issue of the Federal Register, the Commission is issuing a Notice of Proposed Rulemaking to permit electronic filing. In conjunction with that Notice, the Commission has developed a draft of a Handbook on Electronic Filing Procedures that sets forth the requirements governing electronic filing of documents. The Commission solicits public comment on the draft of the Handbook as set out below.

DATES: To be assured of consideration, written comments must be received no later than 5:15 p.m. on June 25, 2002.

ADDRESSES: A signed original and 8 copies of each set of comments, along with a cover letter, should be submitted by mail or hand delivery to Marilyn R. Abbott, Acting Secretary, United States International Trade Commission, 500 E Street, SW., Room 112, Washington, DC 20436.

FOR FURTHER INFORMATION CONTACT: Irene H. Chen, Esq., Office of the General Counsel, United States International Trade Commission, telephone 202-205-3112. Hearing-impaired individuals are advised that information on this matter can be obtained by contacting the Commission's TDD terminal at 202-205-1810. General information concerning the Commission may also be obtained by accessing its World Wide Web site (http://www.usitc.gov).

SUPPLEMENTARY INFORMATION: The Commission proposes to implement electronic filing procedures consistent with the Government Paperwork Elimination Act (Pub. L. 105-277, Title XVII) and Office of Management and Budget Circular A-130. The Commission wishes to promulgate, concomitantly with its proposed amendment of its Rules of Practice and Procedure, certain electronic filing procedures that will be published in a handbook to be maintained and distributed by the Secretary to the Commission. Section 335 of the Tariff Act of 1930 (19 U.S.C. 1335) authorizes the Commission to adopt such reasonable procedures, rules, and regulations as it deems necessary to carry out its functions and duties. The Commission invites the public to comment on the proposed Handbook on Electronic Filing Procedures. The Commission encourages members of the public to comment—in addition to any other comments they wish to make on the proposed procedures—on whether the proposed procedures are in language that is sufficiently plain for users of the Handbook to understand. The Commission plans to phase in the implementation of electronic filing procedures over time. In the initial, pilot phase, the agency anticipates permitting the electronic filing of only documents that contain no confidential business or business proprietary information. The Commission plans to wait until the filing system has been in use for some time before considering whether to expand the list of covered documents. At that stage, the Commission may also provide for heightened security measures in addition to the password system currently described in the draft Handbook. Based on its experience with electronic filing in the pilot phase, the Commission may need to amend other provisions of the Handbook.

The Commission considers public input important to the development of electronic filing procedures. The draft Handbook takes into account comments previously received from the public on electronic filing issues. A suggestion that was not adopted was one proposing a requirement that a filer submit a graphical image of his or her signature on each electronically-filed document. Such an image likely could be electronically manipulated (e.g., copied and pasted), so that such a requirement likely would not enhance the security of the filing and would impose an additional transaction cost on the filer. In contrast, such digitized signatures might be useful with respect to documents requiring multiple signatures.

UNITED STATES INTERNATIONAL TRADE COMMISSION

Washington, DC 20436

COMMISSION HANDBOOK ON ELECTRONIC FILING PROCEDURES

I. Introduction

This Handbook provides instructions for persons who wish to file documents electronically with the United States International Trade Commission (Commission) pursuant to Section 201.8(f) of the Commission's Rules of Practice and Procedure (19 CFR 201.8(f)).

A. In any conflict between the Commission's Rules of Practice and Procedure (Rules) and this Handbook, the Rules shall govern. This Handbook is designed to be read in conjunction with the Rules. This Handbook does not alter or waive any provisions in the Rules governing the filing of documents with entities and/or persons other than the Commission, including but not limited to the United States Secretary, NAFTA Secretariat.

B. If you choose to file in paper form, you must comply with the relevant provisions of the Rules governing such filing. The Commission does not permit filing by means other than paper filing in accordance with the relevant Rules and electronic filing in accordance with Section 201.8(f) and this Handbook. Thus, for example, filing by facsimile and by electronic mail (i.e., sending a document to a Commission electronic mail address) are not permitted.

II. Electronic Filing Procedures (EFP)

A. Definitions and Instructions

(1) “EFP” means the Commission's Electronic Filing Procedures.

(2) “Secretary” means the Secretary to the Commission (500 E Street, SW., Room 112, Washington, DC 20436, telephone 202-205-2000). The EFP is administered by the Secretary and any questions about EFP should be directed to the Secretary.

(3) “Business Hours” or “Business Days” refers to the hours and days that the Commission is open (i.e., from 8:45 a.m. to 5:15 p.m., Washington, DC, local time, from Monday through Friday, excepting Saturdays, Sundays and Federal legal holidays).

(4) The “Web site” refers to the Commission's World Wide Web site at http://edis.usitc.gov.

(5) “EDIS-II” refers to the Commission's Electronic Document Information System, which will receive electronic transmission of documents through the Commission's Web site.

(6) “Document” refers to the cover sheet and attachments that comprise an electronic filing with the Commission.

(7) “Electronic Receipt” means that an electronic transmission of a document to EDIS-II via the Commission's website has been successfully completed in its entirety.

(8) “Electronic filing” means the electronic transmission of a document and the Secretary's acceptance of the document for filing. As discussed below, the electronic transmission and receipt of a document does not necessarily mean that the document has been filed.

(9) “Registered User” means a person that registers to file documents electronically with the Commission.

(10) “E-mail address of record” means the electronic mail address of Registered User which he or she has provided to the Secretary.

(11) “Notice of Electronic Receipt” will be provided in two forms: (a) An on-screen notice of receipt once the electronic transmission of the document is complete; and (b) an e-mail sent to the Registered User's e-mail address of record. The Notice of Electronic Receipt only conveys that the document is physically present at the Commission and does not mean that the document has been accepted by the Commission for filing.

B. Registration as an EFP User and Assignment of Passwords

(1) Except as provided in Paragraph B(5) below, to file electronically, you must first register to become a “Registered User” of the Web site. To register, you should fill-out the “EFP User Registration Form” (hereinafter called “Registration Form”) both on-line at the Website and in paper from by printing-out a paper copy directly from the Website. You should mail or deliver the completed and signed paper copy of the Registration Form to the Secretary. The Registration Form will require identification of your name, firm affiliation (if any), address, telephone number and e-mail address of record, and your original signature (on the paper copy). You must have and maintain a working e-mail address to be a Registered User. You should also designate a User ID and password on the on-line version of the Registration Form; however, you may not use your User ID and password for electronic filing until the Secretary has reviewed the paper copy of your Registration Form and has sent you a Notice of Activation of User ID and Password by mail.

(2) A Registered User may authorize another person to file a document with the Commission using the User ID and Password of the Registered User; however, the Registered User assumes responsibility for any authorized use of his or her User ID and Password. The Registered User and all persons who participate in the preparation of or are signatories to a document shall retain responsibility with respect to any duties and obligations pertaining to the document under the Rules. A Registered User must comply with applicable limitations on disclosure of BPI and CBI when providing his or her User ID and password to another person. As provided in Paragraph II(K)(2), a document filed using a Registered User's ID and Password will be deemed signed by the Registered User.

(3) Upon learning of the potential compromise of the confidentiality of his/her Password, the Registered User shall immediately change the Password. The Registered User must also notify the Secretary of the perceived breach and the period of compromise. If the Registered User has provided his/her Password to an employee of the Registered User's firm, such as a paralegal, legal assistant, or secretary who subsequently leaves the firm, the Registered User must change the password when that employee's access should be terminated. Unless there is perceived breach of confidentiality, in such instances, no notification of the Secretary is needed.

(4) Every Registered User shall be responsible for keeping his or her registration information current.

(5) You may not electronically file documents with the Commission unless you have registered with the Commission pursuant to the procedures set forth in Subparagraph (1) above, with the following exception:

(a) If you do not represent a party to an investigation pending before the Commission (i.e. , you are not an attorney, consultant, officer owner, shareholder, employee, agent, director, or other representative of a party to an investigation), and you would like to submit a documentation to the Commission regarding the pending investigation, please follow the relevant instructions on the Web site.

C. Types of Documents

You may file any document electronically with the Commission without a paper copy, except if the document falls into category (1) below. If the document falls into categories (2) through (7), you are encouraged to file a copy of the document electronically, but you must also file the document in paper form pursuant to the Rules. A document (i) that contains CBI or BPI, (ii) that exceeds the size limit set forth in Paragraph II(J) of this Handbook, or (iii) that contains exhibits of original documents, such as certified copies, must be filed only in paper form in accordance with the Rules.

(1) Documents containing confidential business information (“CBI”) or business proprietary information (“BPI”) as defined in 19 CFR 201.6;

(2) Briefs for which no BPI or CBI version is filed, including those subject to 19 CFR 201.13, 207.15, 207.23, 207.25, 207.65, 207.67, and 210.40 with the exception of the following;

(a) briefs subject to section 332 of the Tariff Act of 1930 for which no CBI version is filed may be filed electronically without corresponding paper copies;

(3) Comments on Questionnaires for which no BPI or CBI version is filed, subject to 19 CFR 207.20 and 207.63;

(4) Final comments for which no BPI version is filed, subject to 19 CFR 207.68 and 207.30;

(5) Petitions for review for which no CBI version is filed subject to 19 CFR 210.43, and 210.46;

(6) Petitions, including those subject to 19 CFR 202.2, 206.2, 206.14, 206.33, 206.43, 206.54, 207.10, 210.47; and

(7) Complaints, including those subject to 19 CFR 210.12. If a standard form has been prescribed to be used when filing any document, you must use that standard form when filing such document electronically. You must complete the electronic cover sheet on EDIS-II at the time that you make your electronic filing. EDIS-II will consider any filing to be the cover sheet and one or more attachments. For example, a cover letter addressed to the Secretary is one attachment. Multiple attachments may be filed as part of the same electronic transmission as long as each attachment does not exceed the size limitation set forth in Paragraph II(J) of this Handbook.

D. Where Documents Are To Be Filed Electronically

If you want to file a document electronically, you should visit the Website and follow the instructions for electronic filing procedures set out at that site, including completion of the cover sheet for each filing. The instructions will include the hardware and software requirements for electronic filing.

E. Notice of Electronic Receipt

Upon completion of the Electronic transmission of your document and upload at the Commission, EDISA-II will provide you with an on-screen Notice of Electronic Receipt. In addition, EDIS-II will generate and send an e-mail Notice of Electronic Receipt to the official e-mail address associated with the User ID. Receipt of a Notice of Electronic Receipt does not constitute acknowledgement by the Commission that the document has been properly filed pursuant to the Rules or this Handbook. Moreover, such notification does not constitute service of the document on the parties to an investigation.

If you do not receive a Notice of Electronic Receipt following transmission of a document for filing or get an error message, the document will not be deemed transmitted to EDIS-II and consequently, will not be received by the Secretary for filing. You must attempt to (i) re-transmit the document electronically until such a Notice is received, (ii) file in paper form, or (iii) contact the Secretary in accordance with the provisions of Section II(G) permitting delayed filings.

If the document is electronically received by EDIS-II on a Saturday, Sunday, or Federal legal holiday, or after business hours on a business day, the effective filing date and time of the document will be the next business day, assuming the document is accepted. If the document is electronically received by EDIS-II during business hours, then the effective filing date and time of the document is the date and time that the document has been electronically received by EDIS-II.

Subsequent to the Notice of Electronic Receipt, the Secretary will send you a second notice (Notice of Electronic Filing) notifying you of the effective filing date and time of the document provided the document is accepted for filing.

F. Deadline for Electronic Filing of Documents

When the Commission has imposed a deadline on the filing of a document, the Secretary will consider the document timely filed electronically only if it is received successfully in its entirety by EDIS-II by 5:15 p.m. Washington, DC local time, on the day that the document is due to be filed. However, you may electronically transmit a document to EDIS-II at any time of the day (i.e., twenty-four hours/day) and on any day of the week (including weekends and holidays). You should preserve the Notice of Electronic Receipt, which states the time and date that EDIS-II received the document, for your records. From time to time, EDIS-II may be unavailable for electronic filing due to periodic maintenance. The Commission will try to schedule EDIS-II maintenance to those times when EDIS-II is least likely to be used. Scheduled downtime of EDIS-II will be posted on the Website.

G. Technical Failures

(1) The Secretary shall deem the Website to be subject to a technical failure on a given day if the Website is unable to accept electronic filings continuously or intermittently over the course of any period of time greater than 12 noon, Washington, DC local time, on that day. If you are unable to file a document electronically by the deadline imposed by the Commission because the Website is experiencing a technical failure, you should contact the Office of the Secretary immediately to report the technical failure of the Website and to seek authorization from the Secretary to file your document after the Commission's deadline governing the filing of your document. If the Secretary grants you such an authorization, the Secretary shall give you an authorization number that you should include on the cover sheet and/or cover letter accompanying your document when you do file your document. When you do file your document subject to the authorization, you should also file a declaration or affadavit stating (i) the fact that the Website's technical failure prevented your making a timely filing, (ii) the dates and times of the attempted filing, (iii) your contacts with the Office of the Secretary to report the Website's technical failure, (iv) the Secretary's granting of authorization to file after deadline to you, and (v) the authorization number.

If you are making a late filing for reasons unrelated to the operating status of the Website, you should follow the normal procedures in the Rules for late filings.

(2) If you discover that the version of the document available for viewing on EDIS-II does not conform to the document that you transmitted, you should send or transmit to the Commission a replacement document with an explanatory cover letter. After receipt, the Secretary will review the documents and provide you with notification of acceptance or rejection.

H. Requests for Late Filing

If you electronically transmit your document prior to 5:15 p.m., but the document is received in its entirety by EDIS-II after 5:15 p.m., you may file a “Request for Late Filing” with the Secretary requesting that the Secretary accept your late filing because you began electronically transmitting the document to EDIS-II prior to 5:15 p.m. As part of your Request for Late Filing, you should attach documentation to demonstrate that you electronically transmitted the document to EDIS-II prior to 5:15 p.m.

I. Format of Documents

(1) Documents filed electronically pursuant to this Handbook must be submitted in Adobe Acrobat portable document format (PDF). Please be aware that some special characters used in certain work-processing applications may not convert easily to PDF. The conversion process to PDF may affect pagination as well as the conversion of special characters. Filers are responsible for the accuracy of the documents submitted.

The Commission encourages the submission, when practicable, of documents converted to PDF from word-processed text over that of documents converted to PDF from images because the former normally are significantly smaller in terms of megabytes than the latter, and because the former are more easily searchable within EDIS-II. EDIS-II will create a searchable text version of an image-based document through an optical character recognition process, but that text version is likely to contain some conversion errors. The Commission will post on the Website information that will assist users with document conversion to PDF.

(2) Each page of an electronically filed document must be in letter-sized format (i.e., 8½ inches by 11 inches when printed by the Secretary). Documents filed electronically cannot exceed the smaller of: the page limits set forth in the Rules or the size limit set forth in Paragraph J below.

J. Size of Electronic Transmission

No single attachment to an electronic transmission may exceed five (5) megabytes. A filing with an attachment that exceeds the foregoing size limitation may only be filed in paper form pursuant to the Rules. All page limits set forth in the Rules shall remain in effect for purposes of this Handbook.

K. Signatures

(1) A document filed with the Commission electronically shall be deemed to be signed by a person (the “Signatory”) when the document identifies the person as a Signatory and the filing complies with subparagraph (2), (3) or (4). When the document is filed with the Commission in accordance with any of these methods, the filing shall bind the Signatory as if the document were physically signed and filed, and shall function as the Signatory's signature, whether for the purpose of complying with the Commission's Rules, to attest to the truthfulness of an affidavit or declaration, or for any other purpose.

(2) In the case of a Signatory who is a Registered User as described in Paragraph II (B)(1), such document shall be deemed signed, regardless of the existence of a physical signature on the document, provided that such document is filed using the User ID and Password of the Signatory. The page on which the physical signature would appear if filed in non-electronic form must be filed electronically, but need not be filed in an optically scanned format displaying the signature of the Signatory. In such cases, the electronically filed document shall indicate a typed “electronic signature”e.g., “s/ Jane Doe”.

(3) In the case of a Signatory who is not a Register User, or who is a Registered User but whose User ID and Password will not be utilized in the electronic filing of the document, such document shall be deemed signed and filed when the document is physically signed by the Signatory, the document is filed electronically, and the signature page is filed in optically scanned form pursuant to and consistent with the EFP.

(4) In the case of a document to be signed by two or more persons, the following procedure shall be used:

(a) The filing person shall initially confirm that the content of the document is acceptable to all persons required to sign the document. The filing person then shall attest that original signatures have been obtained from each of the other signatories on a paper copy of the document. If the filing person complies with the foregoing requirements, the Commission shall presume that the filing person has the authority to file the document on behalf of all other persons required to sign such document.

(b) The filing person shall then file the document electronically, indicating the original signatures that have been obtained, e.g., “s/ Jane Doe,” “s/John Doe,” etc.

(c) The filing person shall retain the hard copy of the document containing the original signatures until one year after the completion of the investigation in which it was filed and of all resulting appeals and disputes.

(d) For a document that requires a signature in the presence of a notary public (e.g., affidavits), the document instead should contain an unsworn declaration clause to be signed by the Signatory under penalty of perjury. The language for unsworn declarations under penalty of perjury is provided in 28 U.S.C. 1746.

L. Limitation on Service of Electronic Documents

Documents filed electronically in all pending matters before the Commission, except for proceedings under section 337 of the Tariff Act of 1930, are not to be served electronically on other parties without the prior agreement of the Secretary. In the case of proceedings under section 337 of the Tariff Act of 1930, the presiding administrative law judge shall determine whether electronic service of documents by parties will be permitted in that proceeding. Parties may only effect electronic service on recipients who have provided written consent thereto to the Secretary or the presiding administrative law judge. Persons who have filed documents electronically with the Commission must comply with the Rules in effecting service of the electronically filed document on parties in accordance with 19 CFR 201.16. All electronically filed documents must be accompanied by a certificate of service.

M. Copyright and Other Proprietary Rights

(1) The Website shall bear a prominent notice as follows: “The contents of each filing in EDIS-II may be subject to copyright and other proprietary rights (with the exception of the notices, orders, and opinions of the ITC). It is the user's obligation to determine and satisfy copyright or other use restrictions when publishing or otherwise distributing material found in EDIS-II. Transmission or reproduction of protected items beyond that allowed by fair use requires the written permission of the copyright owners. Users must make their own assessments of rights in light of their intended use.”

(2) By filing any material with the Commission electronically, a person shall be deemed to consent to all uses of such materials by all parties to the action solely in connection with and for the purposes of the action, including the electronic filing in the action (by a party who did not originally file or produce such materials) of portions of such excerpts, quotations, or selected exhibits from such filed materials as part of motion papers, pleadings or other filings with the Commission.

(3) Any dispute that arises among persons regarding the use of materials, subject to copyright and other proprietary rights must be resolved among the persons themselves, without the Commission's involvement.

III. Duration

A. This Handbook is effective upon issuance. These electronic filing procedures shall remain in effect until superseded or rescinded.

B. The Secretary shall, from time to time, amend the electronic filing procedures as necessary.

By Order of the Commission,
Marilyn R. Abbott,
Secretary.

[FR Doc. 02-10347 Filed 4-25-02; 8:45 am]

BILLING CODE 7020-02-M